DEPARTMENT OF TRANSPORTATION

Office of the Secretary

Notice of Applications for Certificates of Public Convenience and Necessity and Foreign Air Carrier Permits Filed Under Subpart B (Formerly Subpart Q) During the Week Ending December 24, 2004

The following Applications for Certificates of Public Convenience and Necessity and Foreign Air Carrier Permits were filed under subpart B (formerly subpart Q) of the Department of Transportation's Procedural Regulations (see 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: OST-2004-19970.

Date Filed: December 23, 2004.

Due Date for Answers, Conforming Applications, or Motion to Modify Scope: January 13, 2005.

Description: Application of Transmile Air Services Sdn Bhd, requesting a foreign air carrier permit to engage in scheduled all-cargo service between the United States and any point or points and charter all-cargo service between Malaysia and the United States and any point or points in third countries.

Docket Number: OST-2004-19975.

Date Filed: December 23, 2004.

Due Date for Answers, Conforming Applications, or Motion to Modify Scope: January 13, 2005.

Description: Application of Amiyi Airlines Limited, requesting a foreign air carrier permit to operate foreign air transportation of property, and mail on a charter basis, between points in the United States and points in Nigeria, and to operate all-cargo charter services between points in the United States and points in third countries, as provided in the U.S.-Nigeria Air Transport Services Agreement.

Maria Gulczewski,
Supervisory Dockets Officer, Alternate Federal Register Liaison.

[FR Doc. 05-230 Filed 1-5-05; 8:45 am]

BILLING CODE 4910-62-P